DEPARTMENT OF COMMERCE

International Trade Administration

[A-533-873]

Certain Cold-Drawn Mechanical Tubing of Carbon and Alloy Steel From India: Final Results of Antidumping Duty Administrative Reviews of Goodluck India Limited; 2017-2019 and 2019-2020; Correction

AGENCY: Enforcement and Compliance, International Trade Administration, Department of Commerce.

ACTION: Notice; correction.

SUMMARY: On June 26, 2023, the U.S. Department of Commerce (Commerce) published a notice in the Federal Register of the final results of the antidumping duty administrative reviews of certain cold-drawn mechanical tubing of carbon and alloy steel from India, covering the first (November 22, 2017 through May 31, 2019) and second (June 1, 2019, through May 31, 2020) administrative reviews of Goodluck India Limited (Goodluck). That notice incorrectly stated the period of review which serves as the basis for Goodluck's revised cash deposit rate.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Correction

In the Federal Register of June 26, 2023, in FR Doc. 2023-13485, on page 41385, make the following correction:

• Under the subheading titled “Cash Deposit Requirements,” revise the phrase “(1) the cash deposit rate for entries for Goodluck will be equal to the weighted-average dumping margin established in the final results of the 2020-2021 review” to “(1) the cash deposit rate for entries for Goodluck will be equal to the weighted-average dumping margin established in the final results of the 2019-2020 review.”

Background

On June 26, 2023, Commerce published in the Federal Register the final results of the antidumping duty administrative reviews of certain cold-drawn mechanical tubing of carbon and alloy steel from India, covering the first (November 22, 2017, through May 31, 2019) and second (June 1, 2019, through May 31, 2020) administrative reviews of Goodluck.¹ Therein, Commerce incorrectly stated that “the final results of the 2020-2021 review” were the basis for Goodluck's cash deposit rate. This was incorrect. The 2019-2020 review of Goodluck—the final results of which were covered by the above-referenced Federal Register notice—serve as the basis for Goodluck's cash deposit rate.

¹ See Certain Cold-Drawn Mechanical Tubing of Carbon and Alloy Steel from India: Final Results of Antidumping Duty Administrative Reviews of Goodluck India Limited; 2017-2019 and 2019-2020, 88 FR 41384 (June 26, 2023).

Notification to Interested Parties

This notice is issued and published in accordance with sections 751(a) and 777(i)(1) of the Tariff Act of 1930, as amended, and 19 CFR 351.221(b)(5).

Dated: June 27, 2023.
Lisa W. Wang,
Assistant Secretary for Enforcement and Compliance.

[FR Doc. 2023-14028 Filed 6-30-23; 8:45 am]

BILLING CODE 3510-DS-P